DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. 3501 et seq.). To request a copy of the clearance requests submitted to OMB for review, call the HRSA Reports Clearance Office at (301) 443-1129.

The following request has been submitted to the Office of Management and Budget for review under the Paperwork Reduction Act of 1995:

Proposed Project: Data Collection Tool for Rural Health Community-Based Grant Programs: (New)

The mission of the Office of Rural Health Policy (ORHP) is to sustain and improve access to quality care services for rural communities. In its authorizing language (SEC. 711 of the Social Security Act. [42 U.S.C. 912]), Congress charged ORHP to “administer grants, cooperative agreements, and contracts to provide technical assistance and other activities as necessary to support activities related to improving health care in rural areas.”

In 1991, the Health Service Outreach Grants were first appropriated, under the authority of Section 301 of the Public Health Service (PHS) Act. In 1996, the Health Centers Consolidation Act of 1996 added the Section 330A Rural Health Outreach Grant Program to the PHS Act. In 2002, this was amended and authorized again in the PHS Act, Section 330A, as the Rural Health Care Services Outreach, Rural Health Network Development, and Small Health Care Provider Quality Improvement Grant Programs. Five rural health grant programs are currently operating under this authority: (1) The Rural Health Care Services Outreach Grant Program (Outreach), (2) the Rural Health Network Development Program (Network Development), (3) the Small Health Care Provider Quality Improvement Grant Program (Quality), (4) the Delta States Rural Development Network Grant Program (Delta), and (5) the Network Development Planning Grant Program (Network Planning). These grants are to provide expanded delivery of health care services in rural areas, for the planning and implementation of integrated health care networks in rural areas, and for the planning and implementation of small health care provider quality improvement activities.

In general, the grants may be used to expand access to, coordinate, and improve the quality of essential health care services, and enhance the delivery of health care, in rural areas.

For these programs, program performance measures were drafted to provide data useful to the program and to enable HRSA to provide aggregate program data required by Congress under the Government Performance and Results Act (GPRA) of 1993. These measures cover the principle topic areas of interest to ORHP, including: (a) Access to care; (b) the underinsured and uninsured; (c) workforce recruitment and retention; (d) sustainability; (e) health information technology; (f) network development; and (g) health-related clinical measures. Several measures will be used for all five programs. All measures will speak to the Office's progress toward meeting the goals set forth in its strategic plan.

The annual burden estimate for this proposed collection is as follows:

Grant program | Number of respondents | Frequency of responses | Total responses | Hours per response | Total hour burden
Rural Health Outreach Grant Program | 121 | 1 | 121 | 1.25 | 151.25
Rural Health Network Development | 33 | 2 | 66 | 4 | 264
Delta States Rural Development Network Grant Program | 12 | 1 | 12 | 1.25 | 15
Small Health Care Provider Quality Improvement Grant Program | 15 | 1 | 15 | 1 | 15
Network Development Planning Grant Program | 10 | 1 | 10 | 4 | 40
Total | 191 |  | 234 |  | 525.25

Written comments and recommendations concerning the proposed information collection should be sent within 30 days of this notice to the desk officer for HRSA, either by e-mail to OIRA_submission@omb.eop.gov or by fax to 202-395-6974. Please direct all correspondence to the “attention of the desk officer for HRSA.”

Dated: February 12, 2008.
Alexandra Huttinger,
Acting Director, Division of Policy Review and Coordination.

[FR Doc. E8-3064 Filed 2-19-08; 8:45 am]

BILLING CODE 4165-15-P